DEPARTMENT OF HEALTH AND HUMAN SERVICES

Office of the National Coordinator for Health Information Technology; American Health Information Community Population CARE and Clinical Care Connections Workgroup Meeting

ACTION: Announcement of meeting.

SUMMARY: This notice announces the 13th meeting of the American Health Information Community Population Care and Clinical Care Connections Workgroup [formerly Biosurveillance Workgroup] in accordance with the Federal Advisory Committee Act (Pub. L. No. 92-463, 5 U.S.C., App.)

DATES: February 2, 2007, from 10 a.m. to 3 p.m.

ADDRESSES: Mary C. Switzer Building (330 C Street, SW., Washington, DC 20201), Conference Room 4090 (please bring photo ID for entry to a Federal building)

FOR FURTHER INFORMATION CONTACT: http:/www.hhs.gov/healthit/ahic/biosurveillance/.

SUPPLEMENTARY INFORMATION: The Workgroup will discuss the priority areas of Adverse Events and Response Management.

The meeting will be available via Internet access. For additional information, go to http://www.hhs.gov/healthit/ahic/biosurveillance/bio_instruct.html.

Dated: January 22, 2007.
Judith Sparrow,
Director, American Health Information Community, Office of Programs and Coordination, Office of the National Coordinator for Health Information Technology.

[FR Doc. 07-395 Filed 1-29-07; 8:45 am]

BILLING CODE 4150-24-M